DEPARTMENT OF VETERANS AFFAIRS

[OMB Control No. 2900-0636]

Agency Information Collection Activity Under OMB Review: Accelerated Payment Verification of Completion

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before November 16, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0636” in any correspondence.

FOR FURTHER INFORMATION CONTACT: Cynthia Harvey-Pryor, Department Clearance Officer (005R1B), Department of Veterans Affairs, 811 Vermont Avenue NW., (Floor 5, area 368), Washington, DC 20420, (202) 461-5870 or email Cynthia.harvey-pryor@va.gov. Please refer to “OMB Control No. 2900-0636” in any correspondence.

SUPPLEMENTARY INFORMATION:

Authority: Public Law 107-103 and Public Law 110-181; 44 U.S.C. 3501-3521.

Title: Accelerated Payment Verification of Completion, (VA Form 22-0840).

OMB Control Number: 2900-0636.

Type of Review: Extension of a currently approved collection.

Abstract: VA Form 22-0840 allows VA claimants to certify that they received an accelerated payment and how such payment was used.

An agency may not conduct or sponsor, and a person is not required to respond to a collection of information unless it displays a currently valid OMB control number. The Federal Register Notice with a 60-day comment period soliciting comments on this collection of information was published at 82 FR 151 on August 8, 2017, page 37168.

Affected Public: Individuals and households.

Estimated Annual Burden: 1.17 hours.

Estimated Average Burden per Respondent: 5 minutes.

Frequency of Response: One time.

Estimated Number of Respondents: 14.

By direction of the Secretary.
Cynthia Harvey-Pryor,
Department Clearance Officer, Office of Quality, Privacy and Risk, Department of Veterans Affairs.

[FR Doc. 2017-22384 Filed 10-16-17; 8:45 am]

BILLING CODE 8320-01-P